DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than December 9, 2011.

Interested persons are invited to submit written comments regarding the subject matter of the investigations to the Director, Office of Trade Adjustment Assistance, at the address shown below, not later than December 9, 2011.

The petitions filed in this case are available for inspection at the Office of the Director, Office of Trade Adjustment Assistance, Employment and Training Administration, U.S. Department of Labor, Room N-5428, 200 Constitution Avenue NW., Washington, DC 20210.

Signed at Washington, DC this 17th day of November 2011.
Michael Jaffe,
Certifying Officer, Office of Trade Adjustment Assistance.

Appendix
[42 TAA petitions instituted between 10/31/11 and 11/11/11]
TA-W | Subject firm (petitioners) | Location | Date of institution | Date of petition
81032 | Hampton Lumber Mills—Washington, Inc—Darrington Division (Company) | Darrington, WA | 10/31/11 | 10/27/11
81033 | Tower Automotive LLC (Union) | Bellevue, OH | 10/31/11 | 10/28/11
81034 | Roseburg Forest Prod.—Louisville MS Particleboard (Workers) | Louisville, MS | 10/31/11 | 10/28/11
81035 | Dell Computer Corporation (State/One-Stop) | Round Rock, TX | 10/31/11 | 10/28/11
81036 | Fair-Rite Products Corporation (State/One-Stop) | Flat Rock, IL | 10/31/11 | 10/27/11
81037 | Emerson Power Transmission (Company) | Maysville, KY | 10/31/11 | 10/28/11
81038 | Ford Motors (State/One-Stop) | St. Paul, MN | 10/31/11 | 10/27/11
81039 | HDM Furniture Industries, Inc. (Plant 10) (Company) | Mt. Airy, NC | 11/01/11 | 10/31/11
81040 | HDM Furniture Industries, Inc. (Plant 60) (Company) | Morganton, NC | 11/01/11 | 10/31/11
81041 | Vanguard Pai Lung, LLC (Company) | Monroe, NC | 11/01/11 | 10/24/11
81042 | Verizon Communications (State/One-Stop) | Greenville, SC | 11/01/11 | 10/31/11
81043 | Outcomes Health Information Solutions (Workers) | Albuquerque, NM | 11/01/11 | 10/18/11
81044 | FabSol, LLC (Company) | Cadiz, KY | 11/02/11 | 11/01/11
81045 | Aerotek Inc. (Workers) | Hanover, MD | 11/02/11 | 11/01/11
81046 | International Textile Group (Company) | Greensboro, NC | 11/02/11 | 11/01/11
81047 | ERA Systems Corporation (State/One-Stop) | Syracuse, NY | 11/02/11 | 11/01/11
81048 | Tiz Door Sales Inc. (State/One-Stop) | Everett, WA | 11/02/11 | 10/31/11
81049 | Shin Shin America Inc. (State/One-Stop) | Redmond, WA | 11/02/11 | 11/01/11
81050 | Fenton Gift Shops, Inc. (Company) | Williamstown, WV | 11/03/11 | 11/01/11
81051 | Parkdale America, LLC (Company) | Rabun Gap, GA | 11/03/11 | 11/02/11
81052 | Mohawk Fine Papers (Company) | Hamilton, OH | 11/03/11 | 11/02/11
81053 | KFP Corporation (Workers) | Somerset, PA | 11/03/11 | 11/01/11
81054 | High Cotton Enterprises, Inc. (Company) | Fort Payne, AL | 11/04/11 | 11/03/11
81055 | Litton Loan Servicing (Ocwen) (State/One-Stop) | Irving, TX | 11/04/11 | 11/03/11
81056 | Ball Corporation (State) | Terrance, CA | 11/07/11 | 11/03/11
81057 | Harper Collins Publishers (Company) | Williamsport, PA | 11/08/11 | 11/07/11
81058 | Warren Corporation (Company) | Stafford Springs, CT | 11/08/11 | 11/07/11
81059 | Suntec Industries, Inc. (Workers) | Glasgow, KY | 11/08/11 | 11/02/11
81060 | Rodney Hunt Company (State/One-Stop) | Orange, MA | 11/08/11 | 11/07/11
81061 | Emhart Teknologies (Company) | Campbellsville, KY | 11/08/11 | 11/07/11
81062 | Furniture Brands Intl Inc./Thomasville Furniture (Workers) | Thomasville, NC | 11/08/11 | 11/07/11
81063 | Cole Hersee Company (State/One-Stop) | Schertz, TX | 11/08/11 | 11/04/11
81064 | VTech Communications (State/One-Stop) | Beaverton, OR | 11/08/11 | 10/21/11
81065 | ITT VEAM, LLC. (Company) | Watertown, CT | 11/08/11 | 11/07/11
81066 | Conoco Phillips, Trainer Refinery (Union) | Trainer, PA | 11/08/11 | 11/02/11
81067 | Johnson Controls, Inc. (Company) | Hudson, WI | 11/09/11 | 11/01/11
81068 | ET Publishing International, LLC. (Workers) | Miami, FL | 11/09/11 | 11/03/11
81069 | Americal Corporation (Company) | Wake Forest, NC | 11/09/11 | 11/08/11
81070 | Commercial Vehicle Group (Company) | Tellico Plains, TN | 11/10/11 | 11/09/11
81071 | II—VI Inc. (Workers) | Saxonburg, PA | 11/10/11 | 11/09/11
81072 | AT&T Corporate Systems: Customer Financial Management (State/One-Stop) | Morristown, NJ | 11/10/11 | 11/09/11
81073 | Radici Spandex Corp (Company) | Tuscaloosa, AL | 11/10/11 | 11/04/11

[FR Doc. 2011-30658 Filed 11-28-11; 8:45 am]

BILLING CODE 4510-FN-P